COMMITTEE FOR THE IMPLEMENTATION OF TEXTILE AGREEMENTS

Announcement of Import Restraint Limits for Certain Cotton, Wool and Man-Made Fiber Textile Products Produced or Manufactured in the Republic of Turkey

November 27, 2001.

AGENCY: Committee for the Implementation of Textile Agreements (CITA).

ACTION: Issuing a directive to the Commissioner of Customs establishing limits.

EFFECTIVE DATE: January 1, 2002.

FOR FURTHER INFORMATION CONTACT: Roy Unger, International Trade Specialist, Office of Textiles and Apparel, U.S. Department of Commerce, (202) 482-4212. For information on the quota status of these limits, refer to the Quota Status Reports posted on the bulletin boards of each Customs port, call (202) 927-5850, or refer to the U.S. Customs website at http://www.customs.gov. For information on embargoes and quota re-openings, refer to the Office of Textiles and Apparel website at http://otexa.ita.doc.gov.

SUPPLEMENTARY INFORMATION:

Authority: Section 204 of the Agricultural Act of 1956, as amended (7 U.S.C. 1854); Executive Order 11651 of March 3, 1972, as amended.

The import restraint limits for textile products, produced or manufactured in Turkey and exported during the period January 1, 2002 through December 31, 2002 are based on limits notified to the Textiles Monitoring Body pursuant to the Uruguay Round Agreement on Textiles and Clothing (ATC).

Pursuant to the provisions of the ATC, the third stage of the integration of textile and apparel products into the General Agreement on Tariffs and Trade 1994 will take place on January 1, 2002 (see 60 FR 21075, published on May 1, 1995). Accordingly, a certain previously restrained category has been eliminated. Integrated products will no longer be subject to quota.

In the letter published below, the Chairman of CITA directs the Commissioner of Customs to establish the 2002 limits.

A description of the textile and apparel categories in terms of HTS numbers is available in the CORRELATION: Textile and Apparel Categories with the Harmonized Tariff Schedule of the United States (see Federal Register notice 65 FR 82328, published on December 28, 2000). Information regarding the 2002 CORRELATION will be published in the Federal Register at a later date.

D. Michael Hutchinson
Acting Chairman, Committee for the Implementation of Textile Agreements.

Committee for the Implementation of Textile Agreements

November 27, 2001.

Commissioner of Customs,

Department of the Treasury, Washington, DC 20229.

Dear Commissioner: Pursuant to section 204 of the Agricultural Act of 1956, as amended (7 U.S.C. 1854); Executive Order 11651 of March 3, 1972, as amended; and the Uruguay Round Agreement on Textiles and Clothing (ATC), you are directed to prohibit, effective on January 1, 2002, entry into the United States for consumption and withdrawal from warehouse for consumption of cotton, wool and man-made fiber textile products in the following categories, produced or manufactured in Turkey and exported during the period January 1, 2002 through December 31, 2002, in excess of the following levels of restraint:

Category | Restraint limit
Fabric Group |
219, 313-O ¹, 314-O ², 315-O ³, 317-O ⁴, 326-O ⁵, 617, 625/626/627/628/629, as a group | 250,805,808 square meters of which not more than 57,314,241 square meters shall be in Category 219; not more than 70,050,738 square meters shall be in Category 313-O; not more than 40,756,793 square meters shall be in Category 314-O; not more than 54,766,944 square meters shall be in Category 315-O; not more than 57,314,241 square meters shall be in Category 317-O; not more than 6,368,247 square meters shall be in Category 326-O, and not more than 38,209,497 square meters shall be in Category 617.
Sublevel in Fabric Group |
625/626/627/628/629 | 25,800,964 square meters of which not more than 10,320,384 square meters shall be in Category 625; not more than 10,320,384 square meters shall be in Category 626; not more than 10,320,384 square meters shall be in Category 627; not more than 10,320,384 square meters shall be in Category 628; and not more than 10,320,384 square meters shall be in Category 629.
Limits not in a group |
200 | 2,418,310 kilograms.
300/301 | 11,774,577 kilograms.
335 | 508,390 dozen.
336/636 | 1,197,541 dozen.
338/339/638/639 | 7,456,388 dozen of which not more than 6,710,750 dozen shall be in Categories 338-S/339-S/638-S/639-S ⁶.
340/640 | 1,993,889 dozen of which not more than 567,087 dozen shall be in Categories 340-Y/640-Y ⁷.
341/641 | 1,969,058 dozen of which not more than 689,171 dozen shall be in Categories 341-Y/641-Y ⁸.
342/642 | 1,333,112 dozen.
347/348 | 7,253,032 dozen of which not more than 2,522,919 dozen shall be in Categories 347-T/348-T ⁹.
351/651 | 1,208,839 dozen.
352/652 | 4,136,198 dozen.
361 | 2,541,952 numbers.
369-S ¹⁰ | 2,627,894 kilograms.
410/624 | 1,173,610 square meters of which not more than 821,528 square meters shall be in Category 410.
448 | 40,270 dozen.
604 | 3,033,361 kilograms.
611 | 75,885,184 square meters.
¹ Category 313-O: all HTS numbers except 5208.52.3035, 5208.52.4035 and 5209.51.6032.
² Category 314-O: all HTS numbers except 5209.51.6015.
³ Category 315-O: all HTS numbers except 5208.52.4055.
⁴ Category 317-O: all HTS numbers except 5208.59.2085.
⁵ Category 326-O: all HTS numbers except 5208.59.2015, 5209.59.0015 and 5211.59.0015.
⁶ Category 338-S: only HTS numbers 6103.22.0050, 6105.10.0010, 6105.10.0030, 6105.90.8010, 6109.10.0027, 6110.20.1025, 6110.20.2040, 6110.20.2065, 6110.90.9068, 6112.11.0030 and 6114.20.0005; Category 339-S: only HTS numbers 6104.22.0060, 6104.29.2049, 6106.10.0010, 6106.10.0030, 6106.90.2510, 6106.90.3010, 6109.10.0070, 6110.20.1030, 6110.20.2045, 6110.20.2075, 6110.90.9070, 6112.11.0040, 6114.20.0010 and 6117.90.9020; Category 638-S: all HTS numbers except 6109.90.1007, 6109.90.1009, 6109.90.1013 and 6109.90.1025; Category 639-S: all HTS numbers except 6109.90.1050, 6109.90.1060, 6109.90.1065 and 6109.90.1070.
⁷ Category 340-Y: only HTS numbers 6205.20.2015, 6205.20.2020, 6205.20.2046, 6205.20.2050 and 6205.20.2060; Category 640-Y: only HTS numbers 6205.30.2010, 6205.30.2020, 6205.30.2050 and 6205.30.2060.
⁸ Category 341-Y: only HTS numbers 6204.22.3060, 6206.30.3010, 6206.30.3030 and 6211.42.0054; Category 641-Y: only HTS numbers 6204.23.0050, 6204.29.2030, 6206.40.3010 and 6206.40.3025.
⁹ Category 347-T: only HTS numbers 6103.19.2015, 6103.19.9020, 6103.22.0030, 6103.42.1020, 6103.42.1040, 6103.49.8010, 6112.11.0050, 6113.00.9038, 6203.19.1020, 6203.19.9020, 6203.22.3020, 6203.42.4005, 6203.42.4010, 6203.42.4015, 6203.42.4025, 6203.42.4035, 6203.42.4045, 6203.49.8020, 6210.40.9033, 6211.20.1520, 6211.20.3810 and 6211.32.0040; Category 348-T: only HTS numbers 6104.12.0030, 6104.19.8030, 6104.22.0040, 6104.29.2034, 6104.62.2006, 6104.62.2011, 6104.62.2026, 6104.62.2028, 6104.69.8022, 6112.11.0060, 6113.00.9042, 6117.90.9060, 6204.12.0030, 6204.19.8030, 6204.22.3040, 6204.29.4034, 6204.62.3000, 6204.62.4005, 6204.62.4010, 6204.62.4020, 6204.62.4030, 6204.62.4040, 6204.62.4050, 6204.69.6010, 6204.69.9010. 6210.50.9060, 6211.20.1550, 6211.20.6810, 6211.42.0030 and 6217.90.9050.
¹⁰ Category 369-S: only HTS number 6307.10.2005.

The limits set forth above are subject to adjustment pursuant to the provisions of the ATC and administrative arrangements notified to the Textiles Monitoring Body.

Products in the above categories exported during 2001 shall be charged to the applicable category limits for that year (see directive dated October 27, 2000) to the extent of any unfilled balances. In the event the limits established for that period have been exhausted by previous entries, such products shall be charged to the limits set forth in this directive.

Products to be integrated into the General Agreement on Tariffs and Trade 1994 on January 1, 2002 (listed in the Federal Register notice published on May 1, 1995, 60 FR 21075) which are exported during 2001 shall be charged to the applicable 2001 limits to the extent of any unfilled balances. After January 1, 2002, should those 2001 limits be filled, such products shall no longer be charged to any limit.

In carrying out the above directions, the Commissioner of Customs should construe entry into the United States for consumption to include entry for consumption into the Commonwealth of Puerto Rico.

The Committee for the Implementation of Textile Agreements has determined that these actions fall within the foreign affairs exception of the rulemaking provisions of 5 U.S.C. 553(a)(1).

Sincerely,

D. Michael Hutchinson,

Acting Chairman, Committee for the Implementation of Textile Agreements.

[FR Doc. 01-29915 Filed 12-3-01; 8:45 am]

BILLING CODE 3510-DR-S